DEPARTMENT OF ENERGY

Federal Energy Regulatory Commission

[Docket No. CP17-66-002]

Venture Global Plaquemines LNG, LLC; Notice of Request for Extension of Time

Take notice that on September 19, 2025, Venture Global Plaquemines LNG, LLC (Plaquemines LNG) requested that the Commission grant an extension of time, until December 31, 2027, to construct and place into service its Plaquemines Export Terminal (Project) located in Plaquemines Parish, Louisiana as authorized in the Order Granting Authorizations Under Sections 3 and 7 of the Natural Gas Act (Order).¹ The Order required Plaquemines LNG to complete construction of the Project and make it available for service within seven years of the date of the Order, or by September 30, 2026.

¹ Venture Global Plaquemines LNG, LLC, 168 FERC ¶ 61,204 (2019).

Plaquemines LNG states that mobilization and site preparation at the Project site began in the summer of 2020, and construction of the terminal facilities commenced on August 18, 2021. Plaquemines LNG states that on March 13, 2023, Venture Global LNG, Inc. (parent company of Plaquemines LNG) announced its final investment decision and the closing of financing for the second phase of the Project. Plaquemines LNG states that, after obtaining the required Commission approvals, it began liquified natural gas (LNG) production and exported its first commissioning cargo in December 2024. In total, Plaquemines LNG states that it has entered into Sale and Purchase Agreements for the full 20 million metric tons per annum nameplate capacity of the terminal, with most of these agreements covering a 20-year term.

Plaquemines LNG states that the COVID-19 pandemic had negative effects on both supply chains and global LNG demand. Plaquemines LNG also notes that severe weather delayed early construction progress on the Project. Additionally, Plaquemines LNG notes that the terminal's modular LNG train components, thousands of automated control systems, and other facilities require longer commissioning and completion timelines compared to more traditional types of LNG trains. Plaquemines LNG anticipates placing all of its Phase 1 facilities in service during the fourth quarter of 2026 and the remaining Phase 2 facilities in service by mid-2027. Therefore, Plaquemines LNG requests an extension of time until December 31, 2027 to place all of its authorized facilities in-service.

This notice establishes a 15-calendar day intervention and comment period deadline. Any person wishing to comment on Plaquemines LNG's request for an extension of time may do so. No reply comments or answers will be considered. If you wish to obtain legal status by becoming a party to the proceedings for this request, you should, on or before the comment date stated below, file a motion to intervene in accordance with the requirements of the Commission's Rules of Practice and Procedure (18 CFR 385.214 or 385.211) and the Regulations under the Natural Gas Act (NGA) (18 CFR 157.10).

As a matter of practice, the Commission itself generally acts on requests for extensions of time to complete construction for NGA facilities when such requests are contested before order issuance. For those extension requests that are contested,² the Commission will aim to issue an order acting on the request within 45 days.³ The Commission will address all arguments relating to whether the applicant has demonstrated there is good cause to grant the extension.⁴ The Commission will not consider arguments that re-litigate the issuance of the certificate order, including whether the Commission properly found the project to be in the public convenience and necessity and whether the Commission's environmental analysis for the certificate complied with the National Environmental Policy Act (NEPA).⁵ At the time a pipeline requests an extension of time, orders on certificates of public convenience and necessity are final and the Commission will not re-litigate their issuance.⁶ The Director of the Office of Energy Projects, or his or her designee, will act on all of those extension requests that are uncontested.

² Contested proceedings are those where an intervenor disputes any material issue of the filing. 18 CFR 385.2201(c)(1).

³ Algonquin Gas Transmission, LLC, 170 FERC ¶ 61,144, at P 40 (2020).

⁴ Id. at P 40.

⁵ Similarly, the Commission will not re-litigate the issuance of an NGA section 3 authorization, including whether a proposed project is not inconsistent with the public interest and whether the Commission's environmental analysis for the permit order complied with NEPA.

⁶ Algonquin Gas Transmission, LLC, 170 FERC ¶ 61,144, at P 40 (2020).

In addition to publishing the full text of this document in the Federal Register, the Commission provides all interested persons an opportunity to view and/or print the contents of this document via the internet through the Commission's Home Page (http://www.ferc.gov). From the Commission's Home Page on the internet, this information is available on eLibrary. The full text of this document is available on eLibrary in PDF and Microsoft Word format for viewing, printing, and/or downloading. To access this document in eLibrary, type the docket number excluding the last three digits of this document in the docket number field.

User assistance is available for eLibrary and the Commission's website during normal business hours from FERC Online Support at (202) 502-6652 (toll free at 1-866-208-3676) or email at ferconlinesupport@ferc.gov, or the Public Reference Room at (202) 502-8371, TTY (202) 502-8659. Email the Public Reference Room at public.referenceroom@ferc.gov.

The Commission strongly encourages electronic filings of comments in lieu of paper using the “eFile” link at http://www.ferc.gov. In lieu of electronic filing, you may submit a paper copy which must reference the Project docket number.

To file via USPS: Debbie-Anne A. Reese, Secretary, Federal Energy Regulatory Commission, 888 First Street NE, Washington, DC 20426.

To file via any other courier: Debbie-Anne A. Reese, Secretary, Federal Energy Regulatory Commission, 12225 Wilkins Avenue, Rockville, Maryland 20852.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Comment Date: 5:00 p.m. Eastern Time on October 14, 2025.

Dated: September 26, 2025.
Debbie-Anne A. Reese,
Secretary.

[FR Doc. 2025-19160 Filed 9-30-25; 8:45 am]

BILLING CODE 6717-01-P